ENVIRONMENTAL PROTECTION AGENCY

40 CFR Part 52

[EPA-R04-OAR-2013-0062; FRL-9819-9]

Approval and Promulgation of Implementation Plans; Kentucky: Kentucky Portion of Cincinnati-Hamilton, Supplement Motor Vehicle Emissions Budget Update

AGENCY: Environmental Protection Agency (EPA).

ACTION: Proposed rule.

SUMMARY: EPA is proposing to approve a revision to the Kentucky State Implementation Plan (SIP), submitted to EPA on August 9, 2012, by the Commonwealth of Kentucky, through the Kentucky Energy and Environment Cabinet, Division for Air Quality. Kentucky's August 9, 2012, SIP revision includes changes to the maintenance plan for the Kentucky portion of the Cincinnati-Hamilton, OH-KY-IN, maintenance area for the 1997 8-hour ozone national ambient air quality standard (NAAQS). The Cincinnati-Hamilton, OH-KY-IN, maintenance area for the 1997 8-hour ozone NAAQS includes the counties of Boone, Campbell and Kenton in Kentucky (hereafter also referred to as Northern Kentucky); a portion of Dearborn County, Indiana; and the entire counties of Butler, Clermont, Clinton, Hamilton and Warren in Ohio. Kentucky's August 9, 2012, SIP revision proposes to update the motor vehicle emissions budget using an updated mobile emissions model, the Motor Vehicle Emissions Simulator (also known as MOVES2010a), and to increase the safety margin allocated to motor vehicle emissions budgets for nitrogen oxides and volatile organic compounds for Northern Kentucky to account for changes in the emissions model and vehicle miles traveled projection model. EPA is proposing to approve this SIP revision because the Commonwealth has demonstrated that it is consistent with the Clean Air Act.

DATES: Comments must be received on or before July 5, 2013.

ADDRESSES: Submit your comments, identified by Docket ID No. EPA-R04-OAR-2013-0062, by one of the following methods:

1. www.regulations.gov: Follow the on-line instructions for submitting comments.

2. Email: R4-RDS@epa.gov.

3. Fax: (404) 562-9019.

4. Mail: EPA-R04-OAR-2013-0062, Regulatory Development Section, Air Planning Branch, Air, Pesticides and Toxics Management Division, U.S. Environmental Protection Agency, Region 4, 61 Forsyth Street SW., Atlanta, Georgia 30303-8960.

5. Hand Delivery or Courier: Ms. Lynorae Benjamin, Chief, Regulatory Development Section, Air Planning Branch, Air, Pesticides and Toxics Management Division, U.S. Environmental Protection Agency, Region 4, 61 Forsyth Street SW., Atlanta, Georgia 30303-8960. Such deliveries are only accepted during the Regional Office's normal hours of operation. The Regional Office's official hours of business is Monday through Friday, 8:30 to 4:30, excluding federal holidays.

Please see the direct final rule which is located in the Rules section of this Federal Register for detailed instructions on how to submit comments.

FOR FURTHER INFORMATION CONTACT: Kelly Sheckler of the Air Quality and Transportation Modeling Section, in the Air Planning Branch, Air, Pesticides and Toxics Management Division, U.S. Environmental Protection Agency, Region 4, 61 Forsyth Street SW., Atlanta, Georgia 30303-8960. Kelly Sheckler may be reached by phone at (404) 562-9222, or via electronic mail at sheckler.kelly@epa.gov.

SUPPLEMENTARY INFORMATION: In the Final Rules Section of this Federal Register, EPA is approving the State's SIP revision as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period on this document. Any parties interested in commenting on this document should do so at this time.

For additional information see the direct final rule which is published in the Rules Section of this Federal Register.

Dated: May 22, 2013.
A. Stanley Meiburg,
Acting Regional Administrator, Region 4.

[FR Doc. 2013-13187 Filed 6-4-13; 8:45 am]

BILLING CODE 6560-50-P